DEPARTMENT OF JUSTICE

Notice of Rescission of Second Notice of Advance Consent for Providing Certain Aviation Training

AGENCY: Department of Justice.

ACTION: Notice.

SUMMARY: This document notifies the public that the Attorney General is rescinding a notice published in the Federal Register on February 8, 2002 (67 FR 6051-6052), entitled “Provision of Aviation Training to Certain Alien Trainees, Additional Categories of Provisional Advance Consent.” For additional information, see the Interim Final Rule entitled “Screening of Aliens and Other Designated Individuals Seeking Flight Training,” published elsewhere in this issue of the Federal Register.

FOR FURTHER INFORMATION CONTACT: Steven C. McCraw, Director, Foreign Terrorist Task Force, U.S. Department of Justice, 950 Pennsylvania Avenue, NW., Washington, DC 20530, telephone (703) 414-9535.

Dated: May 29, 2002.
Rosemary Hart,
Senior Counsel, Office of Legal Counsel.

[FR Doc. 02-15062 Filed 6-11-02; 5:07 pm]

BILLING CODE 4410-19-M